DEPARTMENT OF COMMERCE

[I.D. 082200B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southeast Region Logbook Family of Forms.

Form Number(s): NOAA Form 88-186.

OMB Approval Number: 0648-0016.

Type of Request: Regular submission.

Burden Hours: 10,639.

Number of Respondents: 3,925.

Average Hours Per Response: For all headboat fishing activities, the Headboat Survey, 12 minutes per response. For the Gulf of Mexico and South Atlantic fishery, the Golden Crab Trip Report Logbook, 10 minutes per response for fishing forms and 2 minutes to submit a no-fishing response. For the Gulf of Mexico and South Atlantic fishery, the Reef Fish Fishing Vessel Logbook Record—Gulf of Mexico Reef Fish, South Atlantic Snapper-Grouper, King and Spanish mackerel, and Shark, 10 minutes per response for fishing forms and 2 minutes for no-fishing forms. For the South and Mid Atlantic Wreckfish Fishery, the Wreckfish Fishery Fishing Vessel Logbook Record, 10 minutes per response for fishing forms and 2 minutes for no-fishing forms. For Colombian waters, the Fishing Vessel Record Colombian Treaty Waters Logbook Catch Report Form, 18 minutes per response for fishing forms and 2 minutes to submit a no-fishing response. For the harvest of acquacultured live rock, the Acquacultured Live Rock Log Report, 15 minutes per response.

Needs and Uses: Participants in Federally-managed fisheries of the Caribbean, Gulf and South Atlantic are required to provide certain information about their fishing activities. The information is needed for the management of the fishery.

Affected Public: Individuals, business and other for-profit organizations.

Frequency: Every trip.

Respondent's Obligation: Mandatory.

OMB Desk Officer: David Rostker, (202) 395-3897.

Copies of the above information collection proposal can be obtained by calling or writing Linda Engelmeier, DOC Forms Clearance Officer, (202) 482-3272, Department of Commerce, Room 6086, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: August 18, 2000.
Madeleine Clayton,
Departmental Forms Clearance Officer, Office of the Chief Information Officer.

[FR Doc. 00-21806 Filed 8-24-00; 8:45 am]

BILLING CODE 3510-22-F